DEPARTMENT OF ENERGY

Federal Energy Regulatory Commission

[Docket No. EL02-23-000 (Phase II)]

Consolidated Edison Company of New York, Inc. v. Public Service Electric and Gas Company; Notice Partially Vacating Procedural Schedule and Authorizing Establishment of New Dates

December 3, 2002.

Correction

In notice document 02-31087 appearing on page 72929 in the issue of Monday, December 9, 2002, make the following correction:

On page 72929, in the second column, in the document heading, add a docket number to read as set forth above.

[FR Doc. C2-31087 Filed 12-16-02; 8:45 am]

BILLING CODE 1505-01-D